ENVIRONMENTAL PROTECTION AGENCY

[OPP-2004-0396; FRL-7690-1]

Pesticide Products; Registration Approval

AGENCY: Environmental Protection Agency (EPA).

ACTION: Notice.

SUMMARY: This notice announces Agency approval of applications to register the following pesticide products containing active ingredients not included in any previously registered products pursuant to the provisions of section 3(c)(5) of the Federal Insecticide, Fungicide, and Rodenticide Act (FIFRA), as amended: “Olive Fly Attract and Kill (A&K) Target Device for Commercial Olives” and “Olive Fly Attract and Kill (A&K) Target Device for Ornamental Olives” containing ammonium bicarbonate; “Sonata ASO” and “QST 2808 MUP” containing Bacillus pumilus strain QST 2808; and “BIOMITE” containing citronellol.

FOR FURTHER INFORMATION CONTACT: The Regulatory Action Leader, Biopesticides and Pollution Prevention Division (7511C), listed in the table in this unit:

Regulatory Action Leader | Telephone number/e-mail address | Mailing address | Chemical/Reg. Number
Andrew Bryceland | (703) 305-9268; bryceland.andrew@epa.gov | Biopesticides and Pollution Prevention Division (7511C), Office of Pesticides Programs, Environmental Protection Agency, 1200 Pennsylvania Ave., NW., Washington, DC 20460-0001 | Ammonium bicarbonate 70051-76 70051-96
Barbara Mandula | (703) 308-7378; mandula.barbara@epa.gov | Do. | B. pumilus strain QST 2808 69592-13 69592-6
Raderrio Wilkins | (703) 308-1259; wilkins.raderrio@epa.gov. | Do. | Citronellol 70057-1

SUPPLEMENTARY INFORMATION:

I. General Information

A. Does this Action Apply to Me?

You may be potentially affected by this action if you are an agricultural producer, food manufacturer or pesticide manufacturer. Potentially affected entities may include, but are not limited to:

• Crop production/Agriculture (NAICS 111)

• Animal production (NAICS 112)

• Food manufacturing (NAICS 311)

• Pesticide manufacturing (NAICS 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions. If you have any questions regarding the applicability of this action to a particular entity, consult the person listed under FOR FURTHER INFORMATION CONTACT.

B. How Can I Get Copies of this Document and Other Related Information?

1. Docket. EPA has established an official public docket for this action under docket identification (ID) number OPP-2004-0396. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

In accordance with section 3(c)(2) of FIFRA, a copy of the approved label, the list of data references, the data and other scientific information used to support registration, except for material specifically protected by section 10 of FIFRA, are also available for public inspection. Requests for data must be made in accordance with the provisions of the Freedom of Information Act and must be addressed to the Freedom of Information Office (A-101), 1200 Pennsylvania Ave., NW., Washington, DC 20460-0001. The request should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Approve the Applications?

The Agency approved the applications after considering all required data on risks associated with the proposed uses of Ammonium Bicarbonate; B. Pumilus strain QST 2808; Citronellol, and information on social, economic, and environmental benefits to be derived from use. Specifically, the Agency has considered the nature of the chemical and its pattern of use, application methods and rates, and level and extent of potential exposure. Based on these reviews, the Agency was able to make basic health and safety determinations which show that use of Ammonium Bicarbonate; B. Pumilus strain QST 2808; Citronellol when used in accordance with widespread and commonly recognized practice, will not generally cause unreasonable adverse effects to the environment.

III. Approved Applications

1. EPA issued a notice, published in the Federal Register of March 28, 2002 (67 FR 14943) (FRL-6827-7), which announced that Thermo Trilogy Corporation, Guilford Road, Suite 175, Columbia, MD 21046, had submitted an application to register the pesticide product, Olive Fly Attract and Kill (A&K) Target Device, an olive fly attractant (EPA File Symbol 70051-TA), containing 12.8% ammonium bicarbonate and 0.2% dioxaspiro-5,5)-undecane (Spiroketal). This product was not previously registered.

The application was approved on June 10, 2004, as “Olive Fly Attract and Kill (A&K) Target Device for Commercial Olives” (EPA Reg. No. 70051-76) and “Olive Fly Attract and Kill (A&K) Target Device for Ornamental Olives” (EPA Reg. No. 70051-96) for control of olive flies in olive orchards.

2. EPA issued a notice, published in the Federal Register of May 8, 2002 (67 FR 30917) (FRL-6829-7), which announced that AgraQuest, Inc, 1530 Drew Avenue, Davis, CA 95616, had submitted an application to register the pesticide product, QST 2808 Technical (later renamed QST 2808 MUP), as a fungicide (EPA File Symbol 69592-A)), containing spores of B. pumilus strain QST 2808. This product was not previously registered.

The application was approved on October 14, 2004 for two products: The end use product Sonata™ ASO (EPA Reg. No. 69592-13), containing 1.38% of active ingredient by weight, for control of various fungal diseases on crops; and QST 2808 MUP (EPA Reg. No. 69592-6), containing 1.42% of active ingredient by weight, for manufacturing the end use product.

3. EPA issued a notice, published in the Federal Register of August 28, 2002 (67 FR 55234) (FRL-7193-7) which announced that Natural Plant Protection, c/o Technology Science Group, Inc., 4061 North 156th Drive, Goodyear, AZ 85338, had submitted an application to register the pesticide product, Biomite™, a mite attractant (EPA File Symbol 70057-R), containing 0.417% citronellol. The product also contains three other registered active ingredients: Geraniol (2-trans-3,7-dimethyl-2,6-octadien-1-ol), Nerolidol (3,7,11-trimethyl-1,6,10-dodecatrien-3-ol), and Farnesol (3,7,11-trimethyl-2,6,10-dodecatrien-1-ol). This product was not previously registered.

The application was approved on April 20, 2004, as BioMite™ (EPA Reg. No. 70057-1) for use against mites on agricultural crops, ornamental plants, and in professional landscape settings.

List of Subjects

Environmental protection, Chemicals, Pesticides and pests.

Dated: December 14, 2004.
Janet L. Andersen,
Director, Biopesticides and Pollution Prevention Division, Office of Pesticide Programs.

[FR Doc. 04-28202 Filed 12-28-04; 8:45 am]

BILLING CODE 6560-50-S